NATIONAL FOUNDATION ON THE ARTS AND THE HUMANITIES

National Endowment for the Humanities

Meeting of National Council on the Humanities

AGENCY: National Endowment for the Humanities; National Foundation on the Arts and the Humanities.

ACTION: Notice of meeting.

SUMMARY: Pursuant to the Federal Advisory Committee Act, notice is hereby given that the National Council on the Humanities will meet to advise the Chair of the National Endowment for the Humanities (NEH) with respect to policies, programs and procedures for carrying out her functions; to review applications for financial assistance under the National Foundation on the Arts and Humanities Act of 1965 and make recommendations thereon to the Chair; and to consider gifts offered to NEH and make recommendations thereon to the Chair.

DATES: The meeting will be held on Thursday, November 17, 2022, from 11 a.m. until 2:30 p.m., and Friday, November 18, 2022, from 11 a.m. until adjourned.

ADDRESSES: The meeting will be held by videoconference originating at Constitution Center, 400 7th Street SW, Washington, DC 20506.

FOR FURTHER INFORMATION CONTACT: Elizabeth Voyatzis, Committee Management Officer, 400 7th Street, SW, 4th Floor, Washington, DC 20506; (202) 606-8322; evoyatzis@neh.gov.

SUPPLEMENTARY INFORMATION: The National Council on the Humanities is meeting pursuant to the National Foundation on the Arts and Humanities Act of 1965 (20 U.S.C. 951-960, as amended). The following Committees of the National Council on the Humanities will convene by videoconference on November 17, 2022, from 11 a.m. until 2:30 p.m., to discuss specific grant applications and programs before the Council:

Challenge Programs;

Digital Humanities;

Education Programs;

Federal/State Partnership;

Preservation and Access;

Public Programs; and

Research Programs.

The plenary session of the National Council on the Humanities will convene by videoconference on November 18, 2022, at 11 a.m. until 2 p.m. The agenda for the plenary session will be as follows:

A. Minutes of Previous Meetings

B. Reports

1. Introduction of New Council member

2. Farewell Remarks from Former Council member

3. Chair's Remarks

4. Reports on Policy and General Matters

C. Challenge Programs

D. Digital Humanities

E. Education Programs

F. Federal/State Partnership

G. Preservation and Access

H. Public Programs

I. Research Programs

The National Council will then convene in executive session by videoconference on November 18, 2022, from 2:10 p.m. to 3:40 p.m.

This meeting of the National Council on the Humanities will be closed to the public pursuant to sections 552b(c)(4), 552b(c)(6), and 552b(c)(9)(B) of title 5, U.S.C., as amended, because it will include review of personal and/or proprietary financial and commercial information given in confidence to the agency by grant applicants, and discussion of certain information, the premature disclosure of which could significantly frustrate implementation of proposed agency action. I have made this determination pursuant to the authority granted me by the Chair's Delegation of Authority to Close Advisory Committee Meetings dated April 15, 2016.

Dated: November 1, 2022.
Samuel Roth,
Attorney-Advisor, National Endowment for the Humanities.

[FR Doc. 2022-24116 Filed 11-4-22; 8:45 am]

BILLING CODE 7536-01-P